DEPARTMENT OF THE INTERIOR

Bureau of Land Management

[LLCAC09000 L16100000.DR000 19XL; MO #4500136521]

Notice of Availability for the Record of Decision for the Central Coast Field Office Approved Resource Management Plan Amendment for Oil and Gas Leasing and Development, California

AGENCY: Bureau of Land Management, Interior.

ACTION: Notice of availability.

SUMMARY: In accordance with the National Environmental Policy Act of 1969, as amended, and the Federal Land Policy and Management Act of 1976, as amended, the Bureau of Land Management (BLM) announces the availability of the Record of Decision (ROD) for the Central Coast Field Office Approved Resource Management Plan (RMP) Amendment. This plan amendment identifies the Federal mineral estate, located primarily in Fresno, Monterey and San Benito counties, California, that is available for oil and gas leasing and development. It also identifies leasing stipulations to protect resources.

DATES: The BLM California Acting State Director signed the ROD on October 4, 2019, which constitutes the final decision of the agency and makes the approved RMP amendment effective immediately. Signing of the ROD also authorizes the issuance, with controlled surface use stipulations, of implementation-level decisions regarding 14 previously litigated oil and gas leases in Monterey and San Benito counties. Signing of the ROD initiates a 30-day appeal period for these leasing decisions to the Interior Board of Land Appeals.

ADDRESSES: Copies of the ROD and approved RMP amendment are available upon request from the Bureau of Land Management Central Coast Field Office, 940 2nd Ave., Marina, CA 93933 or via the internet at https://go.usa.gov/xyFh5. Copies of the ROD and approved RMP amendment are available for public inspection at the BLM Central Coast Field Office, and at the BLM California State Office, 2800 Cottage Way, Suite W1623, Sacramento, CA 95825.

FOR FURTHER INFORMATION CONTACT: Sky Murphy, BLM Planning and Environmental Coordinator, telephone: (831) 582-2200; address: Bureau of Land Management Central Coast Field Office, 940 2nd Ave., Marina, CA 93933; or email: blm_ca_ogeis@blm.gov. Persons who use a telecommunications device for the deaf (TDD) may call the Federal Relay Service (FRS) at (800) 877-8339 to contact Sky Murphy during normal business hours. FRS is available 24 hours a day, 7 days a week, to leave a message or question. You will receive a reply during normal business hours.

SUPPLEMENTARY INFORMATION: The BLM's decision makes approximately 680,000 acres of Federal mineral estate available for leasing with controlled surface use stipulations and another roughly 42,000 acres available for leasing with no surface occupancy requirements. An additional 67,500 acres of Federal mineral estate are closed to leasing and development in designated wilderness areas, wilderness study areas, and national monuments. The BLM plan also supports recovery of threatened and endangered plants and animals in the Ciervo Panoche Natural Area by protecting core populations from surface disturbance. This decision does not authorize any actual drilling for exploration or development of oil and gas resources. The BLM predicts a range from zero to 37 new oil and gas wells could be developed on Federal mineral estate during the next 20 years as a result of this plan amendment. Any future proposals for leasing or development would go through additional environmental reviews based on site-specific project information and other requirements for consultation, coordination and public involvement. The ROD also authorizes issuance of implementation-level decisions for 14 previously litigated oil and gas leases.

The Notice of Availability for the proposed RMP amendment and Final EIS was published on May 10, 2019, initiating a 30-day public protest period (84 FR 20657). The Final EIS analyzed the environmental impacts of six alternative amendments to the RMP including the No Action Alternative. The BLM received 436 protests, 24 of which were from parties with standing. Of the 24 protests with standing, seven were denied as the issues are already addressed in the document and 17 were dismissed as they did not raise protestable issues. The remaining 412 protests were dismissed due to lack of standing.

In accordance with the regulations at 43 CFR 1610.3-2(e), the BLM submitted the proposed RMP amendment and Final EIS for a 60-day Governor's Consistency Review on May 10, 2019. On July 9, 2019, the Governor of California submitted a letter to the BLM California Acting State Director asserting inconsistencies between the proposed RMP amendment and State land use plans, programs, and policies related to the impacts of climate change. The BLM Acting California State Director issued a response to the Governor that addressed the recommendation of the Governor on August 1, 2019. Pursuant to 43 CFR 1610.3-2(e), the BLM provided a 30-day period for the Governor to appeal this response to the BLM Director. That appeal period closed on August 30, 2019, and no appeal was received. Therefore, this decision approves Alternative F, the BLM's preferred alternative in the Final EIS, with no modifications.

Administrative remedies are available to those who are a party to the case and are adversely affected by the leasing decisions included in this ROD. An administrative appeal may be made to the Office of Hearings and Appeals, Office of the Secretary, U.S. Department of Interior, Board of Land Appeals (Board) in strict compliance with the regulations in 43 CFR part 4. Notices of appeal must be filed with the BLM officer who made the decision within 30 days after publication of this decision. If a notice of appeal does not include a statement of reasons, such statement must be filed with the BLM California State Office, 2800 Cottage Way, W1623, Sacramento, CA 95825 and the Board within 30 days after the notice of appeal is filed. The notice of appeal and any statement of reasons, written arguments, or briefs must also be served upon the Regional Solicitor: U.S. Department of the Interior, Office of the Solicitor, Pacific Southwest Region, 2800 Cottage Way, Room E-1712, Sacramento, CA 95825-1890.

Before including your phone number, email address, or other personal identifying information in your appeal, you should be aware that your entire appeal—including your personal identifying information—may be made publicly available at any time. While you can ask us in your appeal to withhold your personal identifying information from public review, we cannot guarantee that we will be able to do so.

(Authority: 40 CFR 1506.6)

Danielle Chi,
Deputy State Director, Fire and Resources.

[FR Doc. 2019-21654 Filed 10-4-19; 8:45 am]

BILLING CODE 4310-40-P